DEPARTMENT OF ENERGY

Federal Energy Regulatory Commission

Combined Notice of Filings # 3

February 17, 2010.

Take notice that the Commission received the following electric rate filings:

Docket Numbers: ER10-749-000.

Applicants: PJM Interconnection, LLC.

Description: PJM Interconnection, LLC submits an executed Wholesale Market Participation Agreement.

Filed Date: 02/05/2010.

Accession Number: 20100216-0236.

Comment Date: 5 p.m. Eastern Time on Friday, February 26, 2010.

Docket Numbers: ER10-750-000.

Applicants: ISO New England Inc.

Description: ISO New England Inc et al submits to the Commission revisions to the rules governing the Forward Capacity Market etc.

Filed Date: 02/16/2010.

Accession Number: 20100216-0235.

Comment Date: 5 p.m. Eastern Time on Tuesday, March 9, 2010.

Docket Numbers: ER10-751-000.

Applicants: Xcel Energy Services Inc.

Description: Northern States Power Company et al submits Original Sheet 1 et al to FERC Electric Tariff, Original Volume 3—FERC Electric Rate Schedule 280-NSP.

Filed Date: 02/05/2010.

Accession Number: 20100216-0234.

Comment Date: 5 p.m. Eastern Time on Friday, February 26, 2010.

Docket Numbers: ER10-752-000.

Applicants: ISO New England Inc.

Description: ISO New England, Inc et al submits transmittal letter describing two minor changes to the ISO New England Financial Assurance Policy etc.

Filed Date: 02/16/2010.

Accession Number: 20100216-0237.

Comment Date: 5 p.m. Eastern Time on Tuesday, March 9, 2010.

Docket Numbers: ER10-753-000.

Applicants: California Independent System Operator Corporation.

Description: The California Independent System Operator Corporation submits filing to modify the credit policy and billing provisions of the ISO tariff and to make related tariff changes.

Filed Date: 02/05/2010.

Accession Number: 20100216-0233.

Comment Date: 5 p.m. Eastern Time on Friday, February 26, 2010.

Docket Numbers: ER10-754-000.

Applicants: Southwest Power Pool, Inc.

Description: Southwest Power Pool submits an executed service agreement for Network Integration Transmission Service etc.

Filed Date: 02/05/2010.

Accession Number: 20100216-0246.

Comment Date: 5 p.m. Eastern Time on Friday, February 26, 2010.

Docket Numbers: ER10-755-000.

Applicants: MidAmerican Energy Company.

Description: MidAmerican Energy Company submits an Interconnection Agreement with the Waverly Municipal Electric Utility, dated 2/1/2010.

Filed Date: 02/16/2010.

Accession Number: 20100216-0229.

Comment Date: 5 p.m. Eastern Time on Tuesday, March 9, 2010.

Docket Numbers: ER10-756-000.

Applicants: PJM Interconnection, LLC.

Description: PJM Interconnection, LLC submits an executed Wholesale Market Participation Agreement entered into among PJM, Recurrent Energy Develo p.m.ent Holdings, LLC et al executed on 1/8/2010.

Filed Date: 02/12/2010.

Accession Number: 20100216-0230.

Comment Date: 5 p.m. Eastern Time on Friday, March 5, 2010.

Docket Numbers: ER10-757-000.

Applicants: PacifiCorp.

Description: PacifiCorp submits Notice of Cancellation of Service Agreement 228 under PacifiCorp's Seventh Revised Volume 11 Open Access Transmission Tariff.

Filed Date: 02/16/2010.

Accession Number: 20100217-0211.

Comment Date: 5 p.m. Eastern Time on Tuesday, March 9, 2010.

Docket Numbers: ER10-758-000.

Applicants: PacifiCorp.

Description: PacifiCorp submits revised sheets to its Open Access Transmission Tariff reflecting updated Load Ratio Share figures to be effective 7/31/10 and an updated Oregon District Access Monthly Demand Charge.

Filed Date: 02/16/2010.

Accession Number: 20100217-0212.

Comment Date: 5 p.m. Eastern Time on Tuesday, March 9, 2010.

Docket Numbers: ER10-759-000.

Applicants: PacifiCorp.

Description: PacifiCorp submits filing seeking Commission approval to revise certain sections of its Open Access Transmission Tariff related to PacifiCorp's Load Ration Share calculation.

Filed Date: 02/16/2010.

Accession Number: 20100217-0213.

Comment Date: 5 p.m. Eastern Time on Tuesday, March 9, 2010.

Docket Numbers: ER10-760-000.

Applicants: Southwest Power Pool, Inc.

Description: Southwest Power Pool, Inc submits notice of cancellation of the Point-to-Point Transmission Service Agreement between SPP as Transmission Provider and Southwestern Public Service Company et al as Transmission Customer.

Filed Date: 02/16/2010.

Accession Number: 20100217-0214.

Comment Date: 5 p.m. Eastern Time on Tuesday, March 9, 2010.

Docket Numbers: ER10-761-000.

Applicants: Southwest Power Pool, Inc.

Description: Southwest Power Pool, Inc submits amendments to its Open Access Transmission Tariff to include a new Attachment AR and related provisions, which provide for a screening study process to evaluate potential Long-Term Service etc.

Filed Date: 02/16/2010.

Accession Number: 20100217-0215.

Comment Date: 5 p.m. Eastern Time on Tuesday, March 9, 2010.

Docket Numbers: ER10-762-000.

Applicants: Southwest Power Pool, Inc.

Description: Southwest Power Pool, Inc submits an executed Small Generator Interconnection Agreement between SPP as Transmission Provider et al.

Filed Date: 02/16/2010.

Accession Number: 20100217-0219.

Comment Date: 5 p.m. Eastern Time on Tuesday, March 9, 2010.

Docket Numbers: ER10-763-000.

Applicants: Idaho Power Company.

Description: Idaho Power Company submits Second Restated and Amended Transmission Facilities Agreement between Idaho Power and PacifiCorp.

Filed Date: 02/16/2010.

Accession Number: 20100217-0217.

Comment Date: 5 p.m. Eastern Time on Tuesday, March 9, 2010.

Docket Numbers: ER10-764-000.

Applicants: Central Maine Power Company.

Description: Central Maine Power Company submits Engineering and Procurement Agreement.

Filed Date: 02/16/2010.

Accession Number: 20100217-0216.

Comment Date: 5 p.m. Eastern Time on Tuesday, March 9, 2010.

Docket Numbers: ER10-765-000.

Applicants: California Independent System Operator Corporation.

Description: California Independent System Operator Corp request to modify the ISO tariff in order to reduce barriers to the participation of demand response in the ISO's market through the implementation of a new demand response etc.

Filed Date: 02/16/2010.

Accession Number: 20100217-0218.

Comment Date: 5 p.m. Eastern Time on Tuesday, March 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov. or call (866) 208-3676 (toll free). For TTY, call (202) 502-8659.

Nathaniel J. Davis, Sr.,
Deputy Secretary.

[FR Doc. 2010-3797 Filed 2-24-10; 8:45 am]

BILLING CODE 6717-01-P